DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of adjustment assistance for workers (TA-W) issued during the period of January, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,011; Cooper Energy Service, Grove City, PA

TA-W-37,065; Svedala Grinding Hodge Foundry, Greenville, PA

TA-W-37,099; Schuylkill Haven Bleach & Dye Works, Inc., Schuylkill Haven PA

In the following cases, the investigation revealed that the criteria for eligibility have not been met for the reasons specified.

TA-W-37,074; American Pharmaceutical Co., Fairfield, NJ

TA-W-37, 103 & A; Alaska Anvil, Inc., Consulting Engineers, Anchorage, AK and Kenai Office, Kenai, AK

The workers firm does not produce an article as required for certification under Section 222 of the Trade Act of 1974.

TA-W-36,909; Topcraft Precision Molders, Inc., Warminster, PA

TA-W-36,684; Pacific Scientific, HTL Kin/Tech Facility, Yorba Linda, CA

TA-W-37,035; Court Metal Finishing, Inc., Flint, MI

TA-W-37,091; Morgan Adhesives Co. d/b/a Mactac, Stow, OH

TA-W-36,873; Hunting Oilfield Service, Landell Div., Spring, TX

TA-W-36,776; Westwood LLC, Southridge, MA

TA-W-36,978; Curtis Wright Flight Systems, Inc., Fairfield, NJ

TA-W-37,145; HCC, Inc., Earlville, IL

TA-W-37,188; Jet Sew Technologies, Barneveld, NY

Increased imports did not contribute importantly to worker separations at the firm.

TA-W-37,192; West Coast Forest Products, Arlington, WA

The investigation revealed that criteria (2) has not been met. Sales or production did not decline during the relevant period as required for certification.

Affirmative Determinations for Worker Adjustment Assistance

The following certifications have been issued; the date following the company name and location of each determination references the impact date for all workers of such determination.

TA-W-36,915; Voith Sulzer Paper Technoligy, Monroe, OH: September 27, 1998.

TA-W-37,073; Fedders North America, Inc., Effingham, IL: November 1, 1998.

TA-W-37,020; Motorola Corp., Motorola Cable Products Div., Motorola ING, Mansfield, MA: October 18, 1998.

TA-W-36,999; Drew Shoe Corp., Lancaster, OH: October 14, 1998.

TA-W-36,934; ColumbiaKnit, Portland, OR: September 23, 1998.

TA-W-37,084; The Stanley Works, Tools Div., Stanley Tools Plant, New Britain, CT: October 26, 1998.

TA-W-37,037; Falk Corp., Milwaukee, WI: November 8, 1998.

TA-W-37,167; GL&V/Dorr Oliver, Inc., Hazleton, PA: November 23, 1998.

TA-W-37,212; Young Generations, Inc., Hendersonville, NC: December 9, 1998.

TA-W-37,193; Russell Corp, Russell Athletic, Columbia, AL and Crestview, FL: December 10, 1998.

TA-W-37,150; SRC Vision, Medford, OR: November 22, 1998.

TA-W-36,945; Moll Industries, Inc., Anchor Advanced Products, Cosmetic Packaging Div., Morristown, TN: September 23, 1998.

TA-W-36,949; Spring Ford Industries, Inc., Plant #1, and Plant #2, Chilhowie, VA: September 28, 1998.

TA-W-37,133; Fuchs Systems, Inc., Salisbury, NC: November 22, 1998.

TA-W-37,213; U.S. Forest Industries, Inc., White City, OR: December 13, 1998.

TA-W-37,127; Carter Footwear, Inc., Wilkes Carre, PA: January 31, 2000.

TA-W-37,111; Crown Cork & Seal Co., Inc., Closures Div., South Connellsville, PA: November 12, 1998.

TA-W-37,207; Tultex Corp., Roanoke, VA: December 9, 1998.

TA-W-37,208; Tultex Corp., South Boston, VA: December 16, 1998.

TA-W-37,081; Joy Mining Machinery, A Div. of Harnischfeger Industries, Franklin, PA: November 3, 1998.

TA-W-36, 51; Temco Fireplace Products, A Div. of Temtex Industries, Perris, CA: September 9, 1998.

TA-W-37,171; Sims Manufacturing Co., Inc., Payne, OH: December 7, 1998.

TA-W-36,922; West Coast Circuits, Watsonville, CA: September 23, 1998.

TA-W-36,947; Smurfit-Stone Container Corp., El Paso, TX: September 27, 1998.

Also, pursuant to Title V of the North American Free Trade Agreement Implementation Act (P.L. 103-182) concerning transitional adjustment assistance hereinafter called (NAFTA-TAA) and in accordance with Section 205(a), Subchapter D, Chapter 2, Title II, of the Trade Act as amended, the Department of Labor presents summaries of determinations regarding eligibility to apply for NAFTA-TAA issued during the month of January 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03402; Barry Callebaut USA, Inc., Van Leer Div., Jersey City, NJ

NAFTA-TAA-03549; Competitive Edge Sportswear, Fall River, MA

NAFTA-TAA-03551; Joy Mining Machinery, A Div. of Harnischfeger Industries, Franklin, PA

NAFTA-TAA-03617; Altec International, La Crosse, WI

NAFTA-TAA-03566; Morgan Adhesives Co., d/b/a Mactac, Stow, OH

NAFTA-TAA-03540; ColumbiaKnit, Portland OR

NAFTA-TAA-03369; Superior-Essex, Pauline, KS

NAFTA-TAA-03527; Cooper Energy Services, Grove City, PA

NAFTA-TAA-03560; Schuylkill Haven Bleach & Dye Works, Inc., Schuylkill Haven, PA

NAFTA-TAA-03519; Piezo Crystal, Carlisle, PA

NAFTA-TAA-03602; HCC, Inc., Earlville, IL

NAFTA-TAA-03344; Flynt Fabrics, Inc., Wadesboro, NC

NAFTA-TAA-03647; Jet Sew Technologies, Barneveld, NY

NAFTA-TAA-03562; Steeltech, Milwaukee, WI

NAFTA-TAA-03649; Fogel Neckwear Corp., New York, NY

NAFTA-TAA-03515 A, B, C; Bayer Clothing Group, Inc., Target Square Facility, Clearfield, PA, Fletcherville Facility, Clearfield, PA, Hyde Facility, Hyde, PA and Kent Facility, Curwensville, PA

NAFTA-TAA-03345; Pacific Scientific HTL Kin/Tech Facility, Yorba Linda, CA

The investigation revealed that the criteria for eligibility have not been met for the reasons specified.

NAFTA-TAA-3622; American Meter Co., Industrial Products Business Unit, Erie, PA

The investigation revealed that criteria (2) has not been met. Sales or Production, or both, of such firm or subdivision did not decrease absolutely.

Affirmative Determinations NAFTA-TAA

NAFTA-TAA-03610; GL&V/Dorr-Oliver, Inc., Hazleton, PA: November 23, 1998.

NAFTA-TAA-03583; Crown Cork & Seal Co., Inc., Closures Div., South Connellsville, PA: November 12, 1998.

NAFTA-TAA-03585; AlliedSignal, Inc., Emlenton Refinery, Emlenton, PA: November 12, 1998.

NAFTA-TAA-03596; Elinco, Inc., A Div. of Eastern Air Devices, Waterbury, CT: November 22, 1998.

NAFTA-TAA-03604; Elinco, Inc., A Div. of Eastern Air Devices, Stamford, CT: November 30, 1998.

NAFTA-TAA-03590; U.S. Forest Industries, Inc., White City, OR: October 30, 1998.

NAFTA-TAA-03625; Master Form, Inc., North Hollywood, CA: November 9, 1998.

NAFTA-TAA-03456; TAB Products Co., Turlock, CA: September 3, 1998.

NAFTA-TAA-03518; Temco Fireplace Products, A Div. of Temtex Industries, Perris, CA: October 6, 1998.

NAFTA-TAA-03627; Tultex Corp., South Boston, VA December 9, 1998.

NAFTA-TAA-03633; Tultex Corp., Roanoke, VA: December 15, 1998.

NAFTA-TAA-03629; Russell Corp., Russell Athletic, Crestview, FL: December 10, 1998.

NAFTA-TAA-03628; Russell Corp., Russell Athletic, Columbia, AL: December 10, 1998.

NAFTA-TAA-03451; NEC Technologies, Inc., Georgia Plant, McDonough, GA: September 17, 1998.

NAFTA-TAA-03614; Sims Manufacturing Co., Inc., Payne, OH: December 1, 1998.

NAFTA-TAA-03594; Workpros, Inc., Div. of Crystal Art, Maspeth, NY: November 3, 1998.

NAFTA-TAA-3631; Rebound Manufacturing, New London, NC: December 7, 1998.

NAFTA-TAA-03657; A & B; Third Generation, Inc., Latta, SC, Ware Shoals, SC and Honea Path, SC: January 4, 1999.

NAFTA-TAA-03623; & A; Tultex Corp., Roxboro, NC and Longhurst, NC: December 15, 1998.

NAFTA-TAA-03639; Dana Corp., Parish Light Vehicle Structures Div., Reading, PA: January 23, 2000.

NAFTA-TAA-03476; Smurfit-Stone Container Corp., El Paso, TX: September 27, 1998.

I hereby certify that the aforementioned determinations were issued during the month of January 2000. Copies of these determinations are available for inspection in Room C-4138, U.S. Department of Labor, 200 Constitution Avenue, NW, Washington, DC 20210 during normal business hours or will be mailed to persons who write to the above address.

Dated: January 28, 2000.
Grant D. Beale,
Program Manager, Division of Trade Adjustment Assistance.

[FR Doc. 00-2493 Filed 2-3-00; 8:45 am]

BILLING CODE 4510-30-M